DEPARTMENT OF HEALTH AND HUMAN SERVICES

Health Resources and Services Administration

Agency Information Collection Activities: Proposed Collection: Public Comment Request

Information Collection Request Title: Rural Health Network Development Program, OMB No. 0906-0010—Revision

AGENCY: Health Resources and Services Administration (HRSA), Derpartment of Health and Human Services.

ACTION: Notice

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this Information Collection Request must be received no later than January 26, 2018.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference, in compliance with Section 3506(c)(2)(A) of the Paperwork Reduction Act of 1995.

Information Collection Request Title: Rural Health Network Development Program OMB No. 0906-0010—Revision.

Abstract: The purpose of the Rural Health Network Development (RHND) program is to support mature, integrated rural health care networks that have combined the functions of the entities participating in the network in order to address the health care needs of the targeted rural community. Awarded programs combine the functions of the entities participating in the network to create innovative solutions to local healthcare needs while addressing the following statutory charges: (i) Achieve efficiencies; (ii) expand access, coordinate, and improve the quality of essential health care services; and (iii) strengthen the rural health care system as a whole.

RHND funded programs promote population health management and the transition towards value based care through diverse network membership that include traditional and non-traditional network partners collaborating to address the local healthcare needs of the targeted community. Evidence of program effectiveness demonstrated by outcome data and program sustainability are integral components of the program. This is a three-year competitive program for mature networks composed of at least three members that are separate, existing health care providers entities.

Need and Proposed Use of the Information: For this program, performance measures provide data to program staff and enable HRSA to provide aggregate program data. These measures cover the principal topic areas of interest to the Federal Office of Rural Health Policy, including: (a) Network infrastructure; (b) sustainability; (c) community impact; and (d) access and quality of healthcare.

For this revised ICR, there are proposed changes to several measures that include network infrastructure, sustainability, community impact, and access and quality of healthcare.

Likely Respondents: The respondents are the RHND Program grant recipients.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Performance Improvement and Measurement System (PIMS) Database | 51 | 1 | 51 | 6 | 306
Total | 51 |  | 51 |  | 306

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Amy McNulty,
Acting Director, Division of the Executive Secretariat.

[FR Doc. 2017-25509 Filed 11-24-17; 8:45 am]

BILLING CODE 4165-15-P